ENVIRONMENTAL PROTECTION AGENCY

[EPA-HQ-ORD-2015-0765; FRL-11555-01-ORD]

Board of Scientific Counselors (BOSC) Climate Change and Social and Community Sciences Subcommittee Meeting—December 2023

AGENCY: Environmental Protection Agency (EPA).

ACTION: Notice of public meeting.

SUMMARY: The Environmental Protection Agency (EPA), Office of Research and Development (ORD), gives notice of a virtual meeting of the Board of Scientific Counselors (BOSC) Climate Change (CC) and Social and Community Sciences (SCS) subcommittees to review and deliberate on their responses to the charge questions posed at two earlier BOSC informational meetings held on June 15, 2023, and June 20, 2023.

DATES: The meeting will be held via videoconference on Wednesday, December 20, 2023, from 12 p.m. to 5 p.m. and Thursday, December 21, 2023, from 12 p.m. to 5 p.m. All times noted are Eastern Time and approximate. The meeting may adjourn early if all business is finished. Attendees should register by December 13, 2023. Requests for making oral presentations at the meeting will be accepted through December 15, 2023. Comments may be submitted through December 15, 2023.

ADDRESSES: Instructions on how to connect to the videoconference will be provided upon registration at: https://bosc-CC-SCS-meeting.eventbrite.com. Submit your comments to Docket ID No. EPA-HQ-ORD-2015-0765 by one of the following methods:

• www.regulations.gov: Follow the online instructions for submitting comments.

• Email: Send comments by electronic mail (email) to: ORD.Docket@epa.gov, Attention Docket ID No. EPA-HQ-ORD-2015-0765.

• Fax: Fax comments to: (202) 566-0224, Attention Docket ID No. EPA-HQ-ORD-2015-0765.

• Mail: Send comments by mail to: Board of Scientific Counselors (BOSC) Executive Committee Docket, Mail Code: 2822T, 1301 Constitution Ave. NW, Washington, DC 20004, Attention Docket ID No. EPA-HQ-ORD-2015-0765.

• Hand Delivery or Courier: Deliver comments to: EPA Docket Center (EPA/DC), Room 3334, William Jefferson Clinton West Building, 1301 Constitution Ave. NW, Washington, DC, Attention Docket ID No. EPA-HQ-ORD-2015-0765. Note: This is not a mailing address. Deliveries are only accepted during the docket's normal hours of operation, and special arrangements should be made for deliveries of boxed information.

Instructions: The EPA's policy is that all comments received will be included in the public docket without change and may be made available online at www.regulations.gov, including any personal information provided unless the comment includes information claimed to be Confidential Business Information (CBI) or other information whose disclosure is restricted by statute. Do not submit information that you consider to be CBI or otherwise protected through www.regulations.gov or email. The www.regulations.gov website is an “anonymous access” system, which means the EPA will not know your identity or contact information unless you provide it in the body of your comment. If you send an email comment directly to the EPA without going through www.regulations.gov, your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket, visit the EPA Docket Center homepage at http://www.epa.gov/dockets/.

FOR FURTHER INFORMATION CONTACT: The Designated Federal Officer (DFO), Tom Tracy, via phone/voicemail at: 919-541-4334; or via email at: tracy.tom@epa.gov.

SUPPLEMENTARY INFORMATION:

General Information: This meeting is open to the public. Any member of the public interested in accessing the meeting agenda and materials, attending the meeting, or making a presentation at the meeting may visit the BOSC website at https://www.epa.gov/bosc. Individuals making an oral presentation will be limited to a total of three minutes. Proposed agenda items for the meeting include but are not limited to subcommittee deliberation on the charge questions.

Information on Services for Individuals with Disabilities: For information on access or services for individuals with disabilities, please contact Tom Tracy at (919) 541-4334 or tracy.tom@epa.gov. To request accommodation of a disability, please contact Tom Tracy, preferably at least ten days prior to the meeting, to give the EPA as much time as possible to process your request.

Mary Ross,
Director, Office of Science Advisor, Policy, and Engagement.

[FR Doc. 2023-26778 Filed 12-5-23; 8:45 am]

BILLING CODE 6560-50-P